ENVIRONMENTAL PROTECTION AGENCY

[OARM-2005-0002, OARM-2005-0003; FRL-7986-1]

Agency Information Collection Activities: Proposed Collection; Comment Request; Monthly Progress Reports, EPA ICR Number 1039.11, OMB Control Number 2030-0005; and Contractor Cumulative Claim and Reconciliation, 1900-10, EPA ICR Number 0246.09, OMB Control Number 2030-0016

AGENCY: Environmental Protection Agency (EPA).

ACTION: Notice.

SUMMARY: In compliance with the Paperwork Reduction Act (44 U.S.C. 3501 et seq.), this document announces that EPA is planning to submit two continuing Information Collection Requests (ICR) to the Office of Management and Budget (OMB). This is a request to renew two existing approved collections. These ICRs are scheduled to expire on March 31, 2006. Before submitting the ICRs to OMB for review and approval, EPA is soliciting comments on specific aspects of the proposed information collection as described below.

DATES: Comments must be submitted on or before December 19, 2005.

ADDRESSES: Submit your comments, referencing docket ID number OARM-2005-0002 for Monthly Progress Reports, EPA ICR Number 1039.11, OMB Control Number 2030-0005; and docket ID number OARM-2005-0003 for Contractor Cumulative Claim and Reconciliation, 1900-10, EPA ICR Number 0246.09, OMB Control Number 2030-0016, to EPA online using EDOCKET (our preferred method), by e-mail to oei.docket@epa.gov, or by mail to: EPA Docket Center, Environmental Protection Agency, Mailcode: 28221T, Attention Docket ID # No. OARM-2005-0002 for Monthly Progress Reports, or OARM-2005-0003 for Contractor Cumulative Claim and Reconciliation, 1200 Pennsylvania Ave., NW., Washington, DC 20460.

FOR FURTHER INFORMATION CONTACT: Tiffany Schermerhorn, Policy, Training and Oversight Division, Office of Acquisition Management, Mail Code 3802R, Environmental Protection Agency, 1200 Pennsylvania Ave., NW., Washington, DC 20460; e-mail address: schermerhorn.tiffany@epa.gov.

SUPPLEMENTARY INFORMATION: EPA has established public dockets for these ICRs under Docket ID number OARM-2005-0002 for Monthly Progress Reports, EPA ICR Number 1039.11, OMB Control Number 2030-0005; and docket ID number OARM-2005-0003 for Contractor Cumulative Claim and Reconciliation, 1900-10, EPA ICR Number 0246.09, OMB Control Number 2030-0016, which are available for public viewing at the OEI Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the OEI Docket is (202) 566-1752. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

The EPA would like to solicit comments to:

(i) Evaluate whether the proposed collections of information are necessary for the proper performance of the functions of the Agency, including whether the information will have practical utility;

(ii) Evaluate the accuracy of the Agency's estimate of the burden of the proposed collections of information, including the validity of the methodology and assumptions used;

(iii) Enhance the quality, utility, and clarity of the information to be collected; and

(iv) Minimize the burden of the collections of information on those who are to respond, including through the use of appropriate automated electronic, mechanical, or other technological collection techniques or other forms of information technology, e.g., permitting electronic submission of responses.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Individual ICRS

(1) Monthly Progress Reports, EPA ICR No. 1039.11, OMB Control No. 2030-0005, expires 3/31/06.

Affected entities: Entities potentially affected by this action are those holding cost reimbursable, time and material, labor hour, or indefinite quantity/indefinite delivery fixed rate contracts with EPA.

Abstract: Agency contractors who have cost reimbursable, time and material, labor hour, or indefinite delivery/indefinite quantity fixed rate contracts will report the technical and financial progress of the contract on a monthly basis. EPA will use this information to monitor the contractor's progress under the contract. Responses to the information collection are mandatory for contractors, and are required for the contractors to receive monthly payments. Information submitted is protected from public release in accordance with the Agency's confidentiality regulations, 40 CFR 2.201 et seq. An agency may not conduct or sponsor, and a person is not required to respond to, a collection of information unless it displays a currently valid OMB control number. The OMB control numbers for EPA's regulations in 40 CFR are listed in 40 CFR part 9.

Burden Statement: EPA estimates that the annual hourly burden for this collection will remain the same as reported in the previous information collection because there has been no change in the information being collected and approximately the same number of contracts remain active. As such, it is estimated that each response will take approximately 36 hours. EPA anticipates that the total active affected contracts will remain approximately 324, time 12 submissions per year to yield about 3,888 annual collections. Each collection is estimated to cost $2,592 based on a variety of contractor personnel performing individual tasks required for information gathering and submission. The anticipated 3,888 annual submissions are estimated to cost $10,077,696 annually. Minimal operation and maintenance costs are expected for photocopying and postage.

(2) Contractor Cumulative Claim and Reconciliation, EPA ICR No. 0246.09, OMB Control No. 2030-0016, expires March 31, 2006.

Affected entities: Entities potentially affected by this action are those holding cost reimbursable contracts with EPA.

Abstract: At the completion of a cost reimbursement contract, contractors will report final costs incurred, including direct labor, materials, supplies, equipment, other direct charges, subcontracting, consultant fees, indirect costs, and fixed fee. Contractors will report this information on EPA Form 1900-10. EPA will use this information to reconcile the contractor's costs. Establishment of the final costs and fixed fee is necessary to close out the contract. Responses to the information collection are mandatory for those contractors completing work under a cost reimbursement contract, and are required to receive final payment. Information submitted is protected from public release in accordance with the Agency's confidentiality regulation, 40 CFR 2.201 et seq.

Burden Statement: EPA estimates that the annual hourly burden for this collection will remain the same as reported in the previous information collection request because there has been no change in the information being collected and approximately the same number of contracts are closed out each year. EPA estimates that the annual hourly burden will be 165 hours based on the following: Each response will take approximately 40 minutes, and EPA closes out approximately 247 contracts per year. The annual dollar burden is estimated at $5,404.36 based on a combination of contractor employees providing the information. The total cost of the contractor-provided information is estimated to be $21.88 for the 40 minute period. Minimal operation and maintenance costs are expected for photocopying and postage.

Dated: October 12, 2005.
Leigh Pomponio,
Manager, Policy and Oversight Service Center.

[FR Doc. 05-20980 Filed 10-19-05; 8:45 am]

BILLING CODE 6560-50-P